ENVIRONMENTAL PROTECTION AGENCY

[FRL OP-OFA-055]

Environmental Impact Statements; Notice of Availability

Responsible Agency: Office of Federal Activities, General Information 202-564-5632 or https://www.epa.gov/nepa.

Weekly receipt of Environmental Impact Statements (EIS)

Filed January 23, 2023 10 a.m. EST Through January 30, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230013, Final, USAF, AR, Beddown of a Foreign Military Sales Pilot Training Center at Ebbing Air National Guard Base, Arkansas or Selfridge Air National Guard Base, Michigan, Review Period Ends: 03/06/2023, Contact: David Martin 210-925-4266.

EIS No. 20230014, Final, STB, MO, Canadian Pacific Acquisition of Kansas City Southern, Review Period Ends: 03/06/2023, Contact: Danielle Gosselin 202-245-0300.

EIS No. 20230015, Final Supplement, BLM, AK, Final Supplemental Environmental Impact Statement for the Willow Master Development Plan, Alaska, Review Period Ends: 03/06/2023, Contact: Carrie Cecil 907-271-1306.

EIS No. 20230016, Final Supplement, USFS, MT, Gold Butterfly Project, Review Period Ends: 03/13/2023, Contact: Matthew Anderson 406-363-7121.

Dated: January 30, 2023.
Cindy S. Barger,
Director, NEPA Compliance Division, Office of Federal Activities.

[FR Doc. 2023-02319 Filed 2-2-23; 8:45 am]

BILLING CODE 6560-50-P